DEPARTMENT OF TRANSPORTATION

Federal Motor Carrier Safety Administration

[Docket No. FMCSA-2023-0265]

Agency Information Collection Activities; Approval of an Information Collection Request: Application for Certificate of Registration for Foreign Motor Carriers and Foreign Motor Private Carriers

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. Foreign (Mexico-based) for-hire and private motor carriers are required to file an application Form OP-2 if they wish to register to transport property within municipalities in the United States on the U.S.-Mexico international border or within the commercial zones of such municipalities. The Certificate of Registration only permits the holder to operate in the United States within these areas. A holder of a Certificate of Registration who operates a vehicle beyond these areas is subject to applicable penalties and out-of-service orders.

DATES: Comments on this notice must be received on or before August 26, 2024.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Mr. Jeffrey L. Secrist, Office of Registration, Chief, Registration Division, DOT, FMCSA, West Building 6th Floor, 1200 New Jersey Avenue SE, Washington, DC 20590; (202) 385-2367; jeff.secrist@dot.gov.

SUPPLEMENTARY INFORMATION:

Title: Application for Certificate of Registration for Foreign Motor Carriers and Foreign Motor Private Carriers.

OMB Control Number: 2126-0019.

Type of Request: Renewal of a currently approved ICR.

Respondents: Foreign motor carriers.

Estimated Number of Respondents: 585.

Estimated Time per Response: 1.5 hours.

Expiration Date: October 31, 2024.

Frequency of Response: Other (as needed).

Estimated Total Annual Burden: 878.

Background

Title 49 U.S.C. 13902(c) contains basic licensing procedures for registering foreign (Mexico-based) motor carriers to operate across the U.S.-Mexico international border into the United States. The regulations that require foreign (Mexico-based) motor carriers to apply to FMCSA for a Certificate of Registration to provide interstate transportation in municipalities in the United States on the U.S.-Mexico international border or within the commercial zones of such municipalities as defined in 49 U.S.C. 13902(c)(4)(A) are found at 49 CFR part 368. FMCSA carries out this registration program under authority delegated by the Secretary of Transportation.

Foreign (Mexico-based) motor carriers with existing Certificates of Registration may continue to use Form OP-2 to update their registration information with FMCSA. The form requests information on the foreign motor carrier's name, address, U.S. DOT number, form of business (e.g., corporation, sole proprietorship, partnership), locations where the applicant plans to operate, types of registration requested (e.g., for-hire motor carrier, household goods carrier, motor private carrier), insurance, safety certifications, household goods arbitration certifications, and compliance certifications.

Changes From Previous Estimates

The currently approved version of this ICR estimated the average annual burden to be 47 annual burden hours, with 31 total annual respondents. For this renewal, the estimated average annual burden is 878 hours, and 585 average annual respondents, based on an estimated burden of 1.5 hours per respondent. The estimated annual burden hour increase of 831 hours is due primarily to the increase in the number of updated OP-2 forms filed from 2020 through 2022. The average number of entities which filed updated OP-2 forms in the three-year period 2020 through 2022 increased by 95 percent compared to the number that registered from 2017 through 2019.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.

Thomas P. Keane,
Associate Administrator, Office of Research and Registration.

[FR Doc. 2024-16349 Filed 7-24-24; 8:45 am]

BILLING CODE 4910-EX-P